DEPARTMENT OF TRANSPORTATION

Federal Aviation Administration

14 CFR Part 39

[Docket No. FAA-2012-1105; Directorate Identifier 2012-NM-137-AD]

RIN 2120-AA64

Airworthiness Directives; Airbus Airplanes

AGENCY: Federal Aviation Administration (FAA), DOT.

ACTION: Notice of Proposed Rulemaking (NPRM).

SUMMARY: We propose to adopt a new airworthiness directive (AD) for all Airbus Model A318, A319, and A320 series airplanes. This proposed AD was prompted by fuel system reviews conducted by the manufacturer, which revealed that certain fuel pumps under certain conditions can create an ignition source in the fuel tank. This proposed AD would require modification of the center tank fuel pump control circuit by installation of ground fault interrupters (GFIs). This proposed AD would also require either replacement of the GFI or deactivation of the associated fuel pump following failure of any post-modification operational test of the GFI. We are proposing this AD to prevent the potential of ignition sources inside fuel tanks, which, in combination with flammable fuel vapors, could result in fuel tank explosions and consequent loss of the airplane.

DATES: We must receive comments on this proposed AD by December 7, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; phone: 425-227-1405; fax: 425-227-1149.

SUPPLEMENTARY INFORMATION:

Comments Invited

We invite you to send any written relevant data, views, or arguments about this proposed AD. Send your comments to an address listed under the ADDRESSES section. Include “Docket No. FAA-2012-1105; Directorate Identifier 2012-NM-137-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued Airworthiness Directive 2012-0198, dated September 26, 2012 (which superseded EASA AD 2012-0133, dated July 18, 2012) (referred to after this as “the MCAI”), to correct an unsafe condition for the specified products. The MCAI states:

* * * The FAA published Special Federal Aviation Regulation (SFAR) 88, and the Joint Aviation Authorities (JAA) published Interim Policy INT/POL/25/12.

In the framework of these requirements, EASA have determined that the electrical power supply circuits of certain fuel pumps, installed on A320 family aeroplanes, for which the canisters become uncovered during normal operation, could, under certain conditions, create an ignition source in the tank vapour space.

This condition, if not corrected, could result in a fuel tank explosion and consequent loss of the aeroplane.

To address this potential unsafe condition, Airbus developed a modification which includes installing Ground Fault Interrupters (GFI) into the centre tank fuel pump control circuit, providing additional system protection by electrically isolating the pump in case of a ground fault condition downstream of the GFI.

Consequently, EASA issued AD 2012-0133 to require modification of the centre tank fuel pump control circuit by installing GFI and thereafter, in case a GFI failed an operational test, replacement of the faulty GFI, or deactivation of the associated fuel pump in accordance with the provisions of the applicable Master Minimum Equipment List (MMEL).

Since that [EASA] AD was issued, it was noted that, inadvertently, the Applicability of the Final AD was incorrect (the preceding PAD [proposed AD] 12-051 was correct) by excluding aeroplanes on which Airbus modification 150736 has been embodied in production. As a result, the required actions when a GFI fails an operational test did not apply to those aeroplanes.

For the reasons described above, this [EASA] AD retains the requirements [modification of the centre tank fuel pump control circuit by installing GFI] of EASA AD 2012-0133, which is superseded, and expands the Applicability to aeroplanes on which Airbus modification 150736 has been embodied in production.

The required actions also include either replacement of the GFI or deactivation of the associated fuel pump following failure of any post-modification operational test of the GFI. You may obtain further information by examining the MCAI in the AD docket.

Relevant Service Information

Airbus has issued Service Bulletin A320-28-1188, dated March 23, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 755 products of U.S. registry. We also estimate that it would take about 11 work-hours per product to comply with the basic requirements of this proposed AD. The average labor rate is $85 per work-hour. Required parts would cost about $3,360 per product, depending on configuration. Where the service information lists required parts costs that are covered under warranty, we have assumed that there will be no charge for these parts. As we do not control warranty coverage for affected parties, some parties may incur costs higher than estimated here. Based on these figures, we estimate the cost of the proposed AD on U.S. operators to be $3,242,725, or $4,295 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-1105; Directorate Identifier 2012-NM-137-AD.

(a) Comments Due Date

We must receive comments by December 7, 2012.

(b) Affected ADs

None.

(c) Applicability

This AD applies to Airbus Model A318-111, -112, -121, and -122 airplanes; Model A319-111, -112, -113, -114, -115, -131, -132, and -133 airplanes; and Model A320-111, -211, -212, -214, -231, -232, and -233 airplanes; certificated in any category; all manufacturer serial numbers.

(d) Subject

Air Transport Association (ATA) of America Code 28, Fuel.

(e) Reason

This AD was prompted by fuel system reviews conducted by the manufacturer, which revealed that certain fuel pumps under certain conditions can create an ignition source in the fuel tank. We are issuing this AD to prevent the potential of ignition sources inside fuel tanks, which, in combination with flammable fuel vapors, could result in fuel tank explosions and consequent loss of the airplane.

(f) Compliance

You are responsible for having the actions required by this AD performed within the compliance times specified, unless the actions have already been done.

(g) Modification

Except as provided by paragraph (h) of this AD: Within 48 months after the effective date of this AD, modify the center tank fuel pump control circuit by installing ground fault interrupters (GFIs), in accordance with the Accomplishment Instructions of Airbus Service Bulletin A320-28-1188, dated March 23, 2012.

(h) Airplanes Excluded From Modification Requirement

For airplanes on which Airbus modification 150736 has been embodied in production, and on which no GFI has been removed since first flight, the modification specified in paragraph (g) of this AD is not required.

(i) Corrective Action for Failed Post-modification Operational Test

After accomplishment of the modification specified in paragraph (g) or (h) of this AD, each time a GFI fails an operational test, before further flight, replace the GFI or deactivate the associated fuel pump, in accordance with a method approved by the Manager, International Branch, ANM-116, Transport Airplane Directorate, FAA.

Note 1 to paragraph (i) of this AD: Guidance on the operational test specified in paragraph (i) of this AD can be found in Task 28.18.00/01, Operational Check of Centre Tank Fuel Pump GFI, of the Airbus A318/A319/A320/A321 Maintenance Review Board Report or Task 281800-710-801, Operational Check of Centre Tank Fuel Pump GFI, of the Airbus A318/A319/A320 Aircraft Maintenance Manual.

Note 2 to paragraph (i) of this AD: Guidance on the fuel pump deactivation specified in paragraph (h) of this AD can be found in Item 28-21-02, Center Tank Systems, of the FAA Master Minimum Equipment List for Airbus A318/A319/A320/A321.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, 1601 Lind Avenue SW., Renton, Washington 98057-3356; phone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI EASA Airworthiness Directive 2012-0198, dated September 26, 2012; and Airbus Service Bulletin A320-28-1188, dated March 23, 2012; for related information.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on October 15, 2012.
John P. Piccola,
Acting Manager, Transport Airplane Directorate, Aircraft Certification Service.

[FR Doc. 2012-26078 Filed 10-22-12; 8:45 am]

BILLING CODE 4910-13-P